GENERAL SERVICES ADMINISTRATION

Public Buildings Service; Notice of Intent To Prepare an Environmental Assessment/Environmental Impact Statement (EIS)

SUMMARY: The General Services Administration (GSA) hereby gives notice it intends to prepare an Environmental Assessment (EA) or Environmental Impact Statement (EIS) pursuant to the requirements of the National Environmental Policy Act (NEPA) of 1969, and the President's Council on Environmental Quality Regulations (40 CFR part 1500-1508), for the construction of a new Federal courthouse in Eugene/Springfield, Lane County, Oregon.

The EA/EIS will be prepared at the completion of, and based upon, a scoping report. The EA/EIS will evaluate the proposed project, any other reasonable alternatives identified through the scoping process, and the no-action alternative. Scoping will be accomplished through two public scoping meetings and direct mail correspondence to interested persons, agencies, parties, and organizations. The public scoping meetings will be held on May 2nd & 3rd, 2000. The scoping meeting on the 2nd will be at the Hilton Hotel, 66 East 6th Ave., Eugene, WA. The scoping meeting on the 3rd, will be held at the Springfield City Hall—Council Meeting Room, 225 5th Street, Springfield, OR. Both meetings will start at 6:30 p.m. with a open house at 6 p.m. GSA will publish a Public Notice of these meetings and all subsequent public meetings in the Eugene and Springfield newspapers approximately two weeks prior to each event. If an Environmental Assessment is prepared, it will be made available for public review. If significant impacts are not identified in the EA, GSA will issue a Finding of No Significant Impact (FONSI). If, upon completion of the EA, significant impacts to the environment are identified, GSA will then prepare an Environmental Impact Statement. Public meeting(s) will be held after the release of the Draft Environmental Impact Statement and GSA will respond to all relevant comments received during the 45 day public comment period through the Final Environmental Impact Statement. After a minimum 30-day period following publication of the Final Environmental Impact Statement, GSA will issue a Record of Decision that will identify the site selected.

SUPPLEMENTARY INFORMATION: GSA, assisted by Herrera Environmental Consultants, is anticipating the preparation of either the Environmental Assessment or Environmental Impact Statement on our proposal to acquire a site, and design and construct a new US Courthouse in Eugene/Springfield, Oregon. GSA will serve as the lead agency and scoping will be conducted consistent with NEPA regulations and guidelines. GSA invites interested individuals, organizations, federal, state and local agencies to participate in defining and identifying any significant impacts and issues to be studied in the EA/EIS, including social, economic, cultural, historic, or environmental concerns. Scoping will identify the significant issues to be analyzed in the environmental document and serve as a method for commenting on the alternatives.

Project Purpose, Historical Background, Description

The District Judges, Magistrates, and US Marshal are currently located in the existing US Courthouse in Eugene, Oregon. Bankruptcy and other court related Agencies are located in lease space in downtown Eugene. The existing Courthouse does not meet the requirements of the US Court's Design guide. The existing Courthouse/Federal building complex cannot be adapted to accommodate the required space and security needs of both the Court and Agency tenants.

Congress has authorized GSA to acquire a site for construction of the new US Courthouse. The approximate gross square feet planned for the project is 228,000 for all US District Court and Bankruptcy Court activities.

Alternatives

The EA/EIS will examine the short and long term impacts on the natural and built environment. The impact assessment will include, but not be limited to impacts such as cultural, historic, environmental, changes in land use, aesthetics, changes in traffic and parking patterns, economic impacts, and city planning and zoning.

The EA/EIS will also examine measures to mitigate significant unavoidable adverse impacts resulting from the proposed action. Concurrent with NEPA implementation, GSA will also implement its consultation responsibilities under Section 106 of the National Historic Preservation Act to identify potential impacts to existing historic or cultural resources.

The EA/EIS will consider a no action alternative. The no-action alternative (no-build) alternative would continue the occupancy in the existing courthouse and continue to lease Court space in Eugene.

The 5 alternative locations are:

Site 1: C Street, Mill Street, Main Street, and Willamette River, Springfield.

Site 2: 8th Ave, Mill Street, Railroad tracks, Eugene.

Site 3: Fronting on the north side of International Way, Tax lot 3500, Springfield.

Site 4: 4th Ave, Willamette River, Hilyard Street, Railroad tracks, High Street, Eugene.

Site 5: 8th Ave, Hilyard Street, Broadway, High Street, and Main Street, Eugene.

ADDRESSES: As part of the public scoping process, GSA solicits your written comments on the scope of alternatives and potential impacts at the following address: Michael D. Levine, Regional Environmental Program Officer, 10PCP, symbol), General Services Administration, 400 15th Street SW, Auburn, WA, 98001, or fax: 253-931-7263, or e-mail at Michael.Levine@GSA.GOV Written comments should be received no later than May X, 2000

FOR FURTHER INFORMATION CONTACT: John Meerscheidt at Herrera Environmental Consultants, 2200 Sixth Ave, Seattle, WA 98121 or call 206-441-9080, or Michael D. Levine, GSA, (206) 931-7263.

Mailing List

If you wish to be placed on the project mailing list to receive future or further information as the EIS process develops, contact Herrera at the address noted above.

Dated: April 6, 2000.
L. Jay Pearson,
Regional Administrator (10A).

[FR Doc. 00-9376 Filed 4-13-00; 8:45 am]

BILLING CODE 6820-23-M